DEPARTMENT OF THE INTERIOR

National Park Service

[NPS-AKR-WRST-1210-6446; 9924-PYS]

Public Meeting for the National Park Service Alaska Region's Subsistence Resource Commission (SRC) Program

AGENCY: National Park Service, Interior.

ACTION: Notice of public meeting for the National Park Service Alaska Region's Subsistence Resource Commission (SRC) program.

SUMMARY: The Wrangell-St. Elias National Park SRC will meet to develop and continue work on National Park Service (NPS) subsistence hunting program recommendations and other related subsistence management issues. The NPS SRC program is authorized under Title VIII, Section 808 of the Alaska National Interest Lands Conservation Act, Public Law 96-487, to operate in accordance with the provisions of the Federal Advisory Committee Act.

Public Availability of Comments: This meeting is open to the public and will have time allocated for public testimony. The public is welcome to present written or oral comments to the SRC. This meeting will be recorded and meeting minutes will be available upon request from the park superintendent for public inspection approximately six weeks after each meeting. Before including your address, telephone number, e-mail address, or other personal identifying information in your comment, you should be aware that your entire comment-including your personal identifying information—may be made publicly available at any time. While you can ask us in your comment to withhold your personal identifying information from public review, we cannot guarantee that we will be able to do so.

Wrangell-St. Elias National Park SRC Meeting Date and Location: The Wrangell-St. Elias National Park SRC will meet at the Ahtna Cultural Center (907-822-5241) in Copper Center Alaska on Tuesday, March 1, 2011, and Wednesday, March 2, 2011, from 9 a.m. to 5 p.m. On March 1, 2011, at the discretion of the Chair, the SRC may meet between 6 p.m. and 10 p.m. The meeting may end early if all business is completed.

For Further Information on the Gates of the Arctic National Park SRC Meeting Contact: Barbara Cellarius, Subsistence Manager, (907) 822-7236, Wrangell-St. Elias National Park and Preserve, P.O. Box 439, Copper Center, Alaska 99573, or Clarence Summers, Subsistence Manager, NPS Alaska Regional Office, at (907) 644-3603.

Proposed SRC Meeting Agenda

The proposed meeting agenda includes the following:

1. Call to order.

2. SRC Roll Call and Confirmation of Quorum.

3. Welcome and Introductions.

4. Approval of Minutes from October 6-7, 2010 Meeting.

5. Administrative Announcements.

6. Review and Approve Agenda.

7. SRC Purpose, Status of Membership and Elections.

8. SRC Member Reports.

9. NPS Staff Reports.

10. Federal Subsistence Board Update.

11. Alaska Board of Game Update.

12. Old Business.

a. Nabesna Off-Road Vehicle Management Plan Draft EIS Update.

b. Chisana Caribou Herd Management Plan Update.

c. Subsistence Uses of Horns, Antlers, Bones and Plants EA Update.

13. New Business.

14. Public and other Agency Comments.

15. SRC Work Session.

16. Set Time and Place for next SRC Meeting.

17. Adjournment.

SRC meeting location and dates may need to be changed based on lack of quorum, inclement weather or local circumstances. If the meeting date and location are changed, a notice will be published in local newspapers and announced on local radio stations prior to the meeting date.

Victor W. Knox,
Deputy Regional Director, Alaska.

[FR Doc. 2011-153 Filed 1-7-11; 8:45 am]

BILLING CODE 4312-HC-P